DEPARTMENT OF COMMERCE

National Oceanic and Atmospheric Administration

[RTID 0648-XB070]

13th Scientific Advisory Subcommittee to the General Advisory Committee and 28th General Advisory Committee to the U.S. Section to the Inter-American Tropical Tuna Commission; Meeting Announcement

AGENCY: National Marine Fisheries Service (NMFS), National Oceanic and Atmospheric Administration (NOAA), Commerce.

ACTION: Notice of public meeting.

SUMMARY: NMFS announces a combined public meeting of the 13th Scientific Advisory Subcommittee (SAS) to the General Advisory Committee (GAC), and the 28th GAC to the U.S. Section to the Inter-American Tropical Tuna Commission (IATTC). This meeting will be held virtually on Wednesday, May 26, 2021, via webinar, and is expected to be the first of two combined virtual meetings of the SAS and GAC in 2021. The meeting topics are described under the SUPPLEMENTARY INFORMATION section of this notice.

DATES: The virtual meeting of the SAS and GAC will be held on Wednesday, May 26, 2021, from 10 a.m. to 1 p.m. PDT (or until business is concluded).

ADDRESSES: Please notify William Stahnke (see FOR FURTHER INFORMATION CONTACT) if you plan to attend the webinar. Instructions will be emailed to meeting participants before the meeting occurs.

FOR FURTHER INFORMATION CONTACT: William Stahnke, West Coast Region, NMFS, at william.stahnke@noaa.gov, or at (562) 980-4088.

SUPPLEMENTARY INFORMATION: The timing of U.S. SAS and GAC meetings is dependent on when IATTC meetings occur. This year, the IATTC will convene its 12th Meeting of the Scientific Advisory Committee (SAC) on May 10-14, 2021, and the 97th Meeting (Extraordinary) of the IATTC on June 7-10, 2021. Due to this schedule, the combined U.S. SAS and GAC Meeting will be held after the IATTC SAC Meeting and before the 97th IATTC Meeting. This timing allows for scientific topics presented at the IATTC SAC Meeting, including stock status indicators, data collection, fish aggregating devices (FADs), inter alia, to be used to inform U.S. positions at the combined U.S. SAS and GAC Meeting. Because the 97th IATTC Meeting is expected to be focused primarily on tropical tuna management measures, gathering stakeholder input regarding tropical tuna will be the primary focus of the combined U.S. SAS and GAC Meeting on May 26, 2021.

It should be noted that the 98th Annual Meeting of the IATTC will be held in August 2021 with additional topics on the agenda. NMFS plans to host a second combined virtual meeting of the SAS and GAC in advance of that meeting, likely in the last week of July 2021.

In accordance with the Tuna Conventions Act (16 U.S.C. 951 et seq.), the U.S. Department of Commerce, in consultation with the Department of State (the State Department), appoints a GAC to the U.S. Section to the IATTC, and a SAS that advises the GAC. The U.S. Section consists of the four U.S. Commissioners to the IATTC and representatives of the State Department, NOAA, Department of Commerce, other U.S. Government agencies, and stakeholders. The GAC advises the U.S. Section with respect to U.S. participation in the work of the IATTC, focusing on the development of U.S. policies, positions, and negotiating tactics. The purpose of the SAS is to advise the GAC on scientific matters. NMFS West Coast Region staff provide administrative support for the SAS and GAC. The meetings of the SAS and GAC are open to the public, unless in executive session. The time and manner of public comment will be at the discretion of the Chairs for the SAS and GAC.

For more information and updates on these upcoming meetings, please visit the IATTC's website: https://www.iattc.org/MeetingsENG.htm.

SAS and GAC Meeting Topics

This meeting will also have a streamlined agenda to prepare for the 97th IATTC Meeting that is expected to focus on tropical tuna.

The meeting agenda will include, but is not limited to, the following topics:

(1) Outcomes of the most recent IATTC stock status indicators and updates for tuna, tuna-like species, and other species caught in association with those fisheries in the eastern Pacific Ocean;

(2) Evaluation of the IATTC Staff's Recommendations to the Commission for 2021;

(3) Discussion of tropical tuna management measures and administrative topics;

(4) Recommendations and evaluations by the SAS and GAC; and

(5) Other issues as they arise.

Special Accommodations

Requests for sign language interpretation or other auxiliary aids should be directed to William Stahnke (see FOR FURTHER INFORMATION CONTACT).

Authority: 16 U.S.C. 951 et seq.

Dated: May 4, 2021.
Jennifer M. Wallace,
Acting Director, Office of Sustainable Fisheries, National Marine Fisheries Service.

[FR Doc. 2021-09689 Filed 5-6-21; 8:45 am]

BILLING CODE 3510-22-P